FARM CREDIT ADMINISTRATION

Sunshine Act; Farm Credit Administration Board; Regular Meeting

AGENCY: Farm Credit Administration.

SUMMARY: Notice is hereby given, pursuant to the Government in the Sunshine Act (5 U.S.C. 552b(e)(3)), of the regular meeting of the Farm Credit Administration Board (Board).

DATE AND TIME: The regular meeting of the Board will be held at the offices of the Farm Credit Administration in McLean, Virginia, on July 15, 2004, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• June 10, 2004 (Open).

B. Reports

• Young, Beginning and Small (YBS) Farmers and Ranchers Results for 2003.

C. New Business—Other

• Amendments to the Articles of Incorporation for the Farm Credit Leasing Services Corporation.

Closed Session*

Reports

• 2003 Audit of the FCS Building Association.

• FCS Building Association Personnel Matter.

*Session Closed-Exempt pursuant to 5 U.S.C. 552b(c)(2), (6), and (8).

Dated: July 2, 2004.
Jeanette C. Brinkley,
Secretary, Farm Credit Administration Board.

[FR Doc. 04-15565 Filed 7-2-04; 2:48 pm]

BILLING CODE 6705-01-P